DEPARTMENT OF HEALTH AND HUMAN SERVICES

Administration for Children and Families

Submission for OMB Review; Comment Request

Title: Evaluation of the Child Welfare Capacity Building Collaborative.

OMB No.: New Collection.

Description: The Evaluation of the Child Welfare Capacity Building Collaborative is sponsored by the Children's Bureau, Administration for Children and Families of the U.S. Department of Health and Human Services. The Capacity Building Collaborative includes three centers (Center for States, Center for Tribes, Center for Courts) funded by the Children's Bureau to provide national child welfare expertise and evidence-informed training and technical assistance services to State, Tribal and Territorial public child welfare agencies and Court Improvement Programs (CIP). The Centers offer a wide array of services including, but not limited to: Web-based content and resources, product development and dissemination, self-directed and group-based training, virtual learning and peer networking events, and tailored consultation and coaching. During the project period the Centers' services will be evaluated by both Center-specific evaluations and a Cross-Center Evaluation. The Center-specific evaluations are designed to collect data on Center-specific processes and outcomes. The Cross-Center Evaluation is designed to respond to a set of cross-cutting evaluation questions posed by the Children's Bureau. The Cross-Center Evaluation will examine: The extent to which key partners across and within the Centers are collaborating; whether the capacity building service interventions offered by the Centers are evaluable; the degree to which Centers follow common protocols; whether service interventions are delivered or performed as designed; how satisfied recipients are with the services received; how effective the service interventions were; which service approaches were most effective and under what conditions; and the costs of services.

The Cross-Center Evaluation is utilizing a longitudinal mixed methods approach to evaluate the Centers' services as they develop and mature over the course of the study period. Multiple data collection strategies will be used to efficiently capture quantitative and qualitative data to enable analyses that address each evaluation question. Proposed Cross-Center Evaluation data sources for this effort include (1) satisfaction surveys to assess recipients' satisfaction with services, such as the Learning Experiences Satisfaction Survey; (2) a leadership interview, administered to all State child welfare directors, Tribal child welfare directors, and CIP coordinators that are receiving services from the Centers; and (3) a collaboration survey, an annual web-based survey administered to the directors and staff of the three Centers. Center-specific data sources for this effort include (1) assessment tools such as the Tribal Organizational Assessment Caseworker Interview; and (2) service-specific feedback forms, such as the Center for States Intensive Projects instrument and the Center for Courts CQI Workshops instrument.

Respondents: Respondents of data collection instruments will include (1) child welfare and judicial professionals that use the Centers' Web pages, products, and online courses, that participate in virtual or in-person trainings or peer events, and that receive brief or intensive tailored services from the Centers; (2) State child welfare directors, Tribal child welfare directors, and CIP coordinators that are receiving services from the Centers; and (3) the directors and staff of the three Capacity Building Centers. The proposed data collection will span four years.

Annual Burden Estimates
Instrument | Annual number of respondents | Number of responses per respondent | Average burden hours per response | Total annual burden hours
Webpages and Products Satisfaction Survey | 1,560 | 1 | .08 | 125
Learning Experiences Satisfaction Survey ¹ | 625 | 1 | .33 | 206
Learning Experiences Satisfaction Survey ² | 900 | 1 | .08 | 72
Webinars, Events, and In-Person Meetings Satisfaction Survey | 5,333 | 1 | .08 | 427
Assessment & Capacity Building Plan Satisfaction Survey | 450 | 1 | .066 | 30
Center for Tribes Contact Form | 50 | 1 | .05 | 3
Center for Tribes Demographic Survey | 20 | 1 | 1.75 | 35
Tribal Organizational Assessment Caseworker Interview | 20 | 1 | 1.25 | 25
Tribal Organizational Assessment Community Provider Interview | 16 | 1 | 1.25 | 20
Tribal Organizational Assessment Community Member/Elder Interview | 12 | 1 | 1.0 | 12
Tribal Organizational Assessment Family Interview | 14 | 1 | 1.0 | 14
Center for States Information and Referral Survey | 12 | 1 | .05 | 1
Center for States Intensive Projects Survey | 330 | 2 | .33 | 218
Center for States Constituency Groups Surveys | 400 | 2 | .33 | 264
Center for States Brief Tailored Services Survey | 125 | 1 | .33 | 42
CIP Annual Meeting Survey | 200 | 1 | .13 | 26
Center for Courts CQI Workshops | 48 | 1 | .17 | 8
Leadership Interview—States and Territories | 13 | 2 | 1 | 26
Leadership Interview—CIPs | 13 | 2 | 1 | 26
Leadership Interview—Tribes | 8 | 2 | 1.25 | 20
Leadership Interview Part II—Tribes | 8 | 2 | .67 | 11
Annual Collaboration Survey | 230 | 1 | .36 | 83
¹ For Learning Experiences that consist of a single event (e.g. on-line session or in-person training).
² For more intensive Learning Experiences that require administration of multiple surveys over a series of events, modules, or units.

Estimated Total Annual Burden Hours: 1,694.

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Robert Sargis,
Reports Clearance Officer.

[FR Doc. 2016-04582 Filed 3-1-16; 8:45 am]

BILLING CODE P